DEPARTMENT OF HOMELAND SECURITY

Transportation Security Administration

[Docket No. TSA-2004-17131]

Extension of Agency Information Collection Activity Under OMB Review: Aircraft Repair Station Security

AGENCY: Transportation Security Administration, DHS.

ACTION: 30-Day notice.

SUMMARY: This notice announces that the Transportation Security Administration (TSA) has forwarded the Information Collection Request (ICR), Office of Management and Budget (OMB) control number 1652-0060, abstracted below to OMB for review and approval of an extension of the currently approved collection under the Paperwork Reduction Act (PRA). The ICR describes the nature of the information collection and its expected burden. The collection involves recordkeeping requirements and petitions for reconsideration for certain aircraft repair stations.

DATES: Send your comments by July 2, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on March 26, 2025, 90 FR 13772. TSA did not receive any comments on the notice.

Comments Invited

In accordance with the Paperwork Reduction Act of 1995 (44 U.S.C. 3501 et seq.), an agency may not conduct or sponsor, and a person is not required to respond to, a collection of information unless it displays a valid OMB control number. The ICR documentation is available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aircraft Repair Station Security.

Type of Request: Extension of a currently approved collection.

OMB Control Number: 1652-0060.

Forms(s): NA.

Affected Public: Aircraft Repair Stations.

Abstract: In accordance with TSA's authority and responsibility over aviation security, TSA conducts reviews and audits of aircraft repair stations with a 145-certificate issued by the FAA, located within and outside of the United States to ensure compliance with the requirements of 49 CFR part 1554. This includes the collection of information relating to point of contact, recordkeeping of employment history records, compliance with the recordkeeping requirements of Security Directives and petitions for reconsideration.

Estimated Annual Number of Respondents: 4,899.¹

¹ Since the publication of the 60-day notice, TSA has updated the annual number of respondents from 4,900 to 3,899 and the annual burden hours from 412 to 330.

Estimated Annual Burden Hours: 330.

Dated: May 28, 2025.
Christina A. Walsh,
Paperwork Reduction Act Officer, Information Technology, Transportation Security Administration.

[FR Doc. 2025-09942 Filed 5-30-25; 8:45 am]

BILLING CODE 9110-05-P